OFFICE OF PERSONNEL MANAGEMENT

Submission for Review: SF-15 Application for 10-Point Veteran Preference

AGENCY: Office of Personnel Management.

ACTION: 30-Day Notice and request for comments.

SUMMARY: In accordance with the Paperwork Reduction Act of 1995 (Pub. L. 104-13, May 22, 1995), this notice announces the Office of Personnel Management's (OPM) plan to submit to the Office of Management and Budget (OMB) a request for clearance of a revised information collection, Standard Form (SF) 15, Application for 10-Point Veteran Preference. The SF-15 is used by agencies, OPM examining offices, and agency appointing officials to adjudicate individuals' claims for veterans' preference in accordance with the Veterans' Preference Act of 1944. OPM's revisions will (1) remove obsolete items; and (2) update language as a result of the enactment of the VOW (Veterans Opportunity to Work) to Hire Heroes Act of 2011 (Pub. L. 112-56). The SF-15 will be revised to create a PDF fillable form for applicant use. The only acceptable version of this form will be as stated above, but consistent with current practice, the form may be submitted electronically or in hard copy. Upon publication, please destroy any prior versions you have in stock. The SF-15 will be obtainable on the OPM Web site at http://www.opm.gov/forms/standard-forms/. No comments were received for this information collection. The purpose of this notice is to allow an additional 30 days for public comments. The Office of Management and Budget is particularly interested in comments that:

1. Evaluate whether the proposed collection of information is necessary for the proper performance of the functions of OPM, including whether the information will have practical utility;

2. Evaluate the accuracy of OPM's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until November 29, 2013. This process is conducted in accordance with 5 CFR 1320.1.

ADDRESSES: Interested persons are invited to submit written comments on the proposed information collection by mail to the Office of Information and Regulatory Affairs, Office of Management Budget, 725 17th Street NW., Washington, DC 20503, Attention: Desk Officer for the Office of Personnel Management, by email to oira_submission@omb.eop.gov, or by fax to (202) 395-6974.

FOR FURTHER INFORMATION CONTACT: A copy of this Information Collection Request (ICR), with applicable supporting documentation, may be obtained by contacting the Office of Information and Regulatory Affairs, Office of Management Budget, 725 17th Street NW., Washington, DC 20503, Attention: Desk Officer for the Office of Personnel Management or sent via electronic mail to oira_submission@omb.eop.gov or faxed to (202) 395-6974.

Analysis

Agency: Hiring Policy, Office of Personnel Management.

Title: SF-15 Application for 10-Point Veteran Preference.

OMB Number: 3206-0001.

Affected Public: General Public.

Number of Respondents: 22,300 per year.

Estimated Time per Respondent: 10 minutes.

Total Burden Hours: 3,717 hours per year.

U.S. Office of Personnel Management.
Elaine Kaplan,
Acting Director.

[FR Doc. 2013-25733 Filed 10-29-13; 8:45 am]

BILLING CODE 6325-39-P